DEPARTMENT OF THE INTERIOR

Bureau of Land Management

[LLMT926000-11-L19100000-BJ0000-LRCME0R04758]

Notice of Filing of Plats of Survey; Montana

AGENCY: Bureau of Land Management, Interior.

ACTION: Notice of filing of plats of survey.

SUMMARY: The Bureau of Land Management (BLM) will file the plat of survey of the lands described below in the BLM Montana State Office, Billings, Montana, on March 2, 2011.

DATES: Protests of the survey must be filed before March 2, 2011 to be considered.

ADDRESSES: Protests of the survey should be sent to Branch of Cadastral Survey, Bureau of Land Management, 5001 Southgate Drive, Billings, Montana 59101-4669.

FOR FURTHER INFORMATION CONTACT: Marvin Montoya, Cadastral Surveyor, Branch of Cadastral Survey, Bureau of Land Management, 5001 Southgate Drive, Billings, Montana 59101-4669, telephone (406) 896-5124 or (406) 896-5009.

SUPPLEMENTARY INFORMATION: This survey was executed at the request of the Bureau of Indian Affairs, Rocky Mountain Region, Billings, Montana, and was necessary to determine individual and tribal trust lands.

The lands we surveyed are:

Principal Meridian, Montana

T. 26 N., R. 45 E.

The plat, in one sheet, representing the dependent resurvey of a portion of the subdivisional lines, a portion of the subdivision of section 12, the adjusted original meanders of the former left bank of the Missouri River, downstream, through section 12, and the subdivision of section 12, and the survey of the meanders of the present left bank of the Missouri River, downstream, through a portion of section 12, Township 26 North, Range 45 East, Principal Meridian, Montana, was accepted January 21, 2011.

We will place a copy of the plat, in one sheet, and related field notes we described in the open files. They will be available to the public as a matter of information. If the BLM receives a protest against this survey, as shown on this plat, in one sheet, prior to the date of the official filing, we will stay the filing pending our consideration of the protest. We will not officially file this plat, in one sheet, until the day after we have accepted or dismissed all protests and they have become final, including decisions or appeals.

Authority: 43 U.S.C. Chap. 3.

Dated: January 21, 2011.
James D. Claflin,
Chief Cadastral Surveyor, Division of Resources.

[FR Doc. 2011-2016 Filed 1-28-11; 8:45 am]

BILLING CODE 4310-DN-P